DEPARTMENT OF AGRICULTURE

Animal and Plant Health Inspection Service

9 CFR Part 93

[Docket No. 05-041-2]

Importation of Cattle From Mexico

AGENCY: Animal and Plant Health Inspection Service, USDA.

ACTION: Proposed rule; withdrawal.

SUMMARY: We are withdrawing a proposed rule that would have added San Luis, AZ, as a port through which cattle that have been infested with fever ticks or exposed to fever ticks or tick-borne diseases may be imported into the United States. The proposed rule would also have removed provisions that limit the admission of cattle that have been infested with fever ticks or exposed to fever ticks or tick-borne diseases to the State of Texas and that prohibit the movement of such cattle into areas of Texas quarantined because of fever ticks. We are taking this action after considering the comments we received following the publication of the proposed rule.

FOR FURTHER INFORMATION CONTACT: Dr. Arnaldo Vaquer, Senior Staff Veterinarian, National Center for Import and Export, Technical Trade Services Team, VS, APHIS, 4700 River Road Unit 43, Riverdale, MD 20737-1231; (301) 734-8364.

SUPPLEMENTARY INFORMATION: The regulations in 9 CFR part 93 prohibit or restrict the importation of certain animals, birds, and poultry into the United States to prevent the introduction of communicable diseases of livestock and poultry. In section 93.426, paragraph (a) states that all ruminants offered for entry into the United States from Mexico must be inspected at the port of entry and found to be free from communicable diseases and fever tick infestation and to not have been exposed to communicable diseases and fever tick infestation. Under section 93.427(b)(2), cattle that have been exposed to splenetic, southern, or tick fever, or that have been infested with or exposed to fever ticks, may be imported from Mexico for admission into the State of Texas, except that portion of the State quarantined because of fever ticks, either at one of the land border ports in Texas listed in section 93.403(c) of the regulations, or at the port of Santa Teresa, NM, provided that certain conditions are met.

On November 9, 2005, we published in the Federal Register (70 FR 67933-67935, Docket No. 05-041-1) a proposed rule to amend the regulations in 9 CFR part 93 to: (1) Add San Luis, AZ, as a port through which cattle that have been infested with fever ticks or exposed to fever ticks or tick-borne diseases may be imported into the United States; (2) remove provisions that limit the admission of cattle that have been infested with fever ticks or exposed to fever ticks or tick-borne diseases to the State of Texas; and (3) remove provisions that prohibit the movement of such cattle into areas of Texas quarantined because of fever ticks.

We solicited comments concerning our proposal for 60 days ending on January 9, 2005. We received a total of 11 comments by that date. They were from representatives of the cattle industry, State agriculture and animal health departments, and private citizens. Three of the commenters supported the proposed rule. The remaining commenters were opposed to the proposed rule, citing concerns about importing Mexican cattle, maintaining and staffing the new port, or increasing the risk of spreading bovine piroplasmosis (another name for splenetic, southern, or tick fever) to domestic cattle within Texas or California.

APHIS is further analyzing the animal health risks associated with the changes we proposed and is therefore withdrawing the November 9, 2005, proposed rule referenced above. The concerns and recommendations of all the commenters will be considered if any new proposed regulations regarding changes to the fever tick regulations are developed.

Authority: 7 U.S.C. 1622 and 8301-8317; 21 U.S.C. 136 and 136a; 31 U.S.C. 9701; 7 CFR 2.22, 2.80, and 371.4.

Done in Washington, DC, this 7th day of April 2006.
Kevin Shea,
Acting Administrator, Animal and Plant Health Inspection Service.

[FR Doc. E6-5509 Filed 4-12-06; 8:45 am]

BILLING CODE 3410-34-P